DEPARTMENT OF TRANSPORTATION

Federal Aviation Administration

Study of Allowing Credit for Emergency Services Provided as Airport Local Share Under the Airport Improvement Program

AGENCY: Federal Aviation Administration (FAA), (DOT).

ACTION: Notice of Study of Allowing Credit for Emergency Services Provided as Airport Local Share under the Airport Improvement Program and of Opportunity to Provide Input.

SUMMARY: The Wendell H. Ford Aviation Investment and Reform Act for the 21st Century, (Pub. L. 106-181, April 5, 2000), cited below as AIR 21, includes a provision that requires the Federal Aviation Administration (FAA) to conduct a study and report the findings. Section 724, Credit for Emergency Services Provided, directs the FAA to study the appropriateness of allowing an airport that agrees to provide services to the Federal Emergency Management Agency (FEMA) or to a State or local agency, in the event of an emergency, a credit of the value of such services against the airport's local share under the Airport Improvement Program (AIP).

DATES: This study will be conducted by the FAA Office of the Associate Administrator for Airports, Airports Financial Assistance Division, Program Guidance Branch. It will be based on a review of comments submitted by potential beneficiaries and other information gained from experience with administration of the AIP. Nonhub and General Aviation airports are encouraged to submit comments explaining how the credit would benefit their airport. Comments should also address what sort of emergencies could qualify for such credit and how the costs would be quantified to determine the credit against the local share. Comments must be submitted on or before December 4, 2000.

ADDRESSES: Comments may be delivered or mailed to the FAA, Airports Financial Assistance Division, APP-500, Room 615, 800 Independence Ave, SW, Washington, DC 20591 (ATTN: Don Samuels, APP-510).

FOR FURTHER INFORMATION CONTACT: Mr. Don Samuels (Program Guidance Branch) Telephone (202) 267-8818.

SUPPLEMENTARY INFORMATION: The following is Section 724 of AIR 21.

“SEC. 724. CREDIT FOR EMERGENCY SERVICES PROVIDED

(a) Study.—The Administrator shall conduct a study of the appropriateness of allowing an airport that agrees to provide services to the Federal Emergency Management Agency or to a State or local agency in the event of an emergency a credit of the value of such services against the airport's local share under the airport improvement program.

(b) Notification.—The Administrator shall notify nonhub and general aviation airports that the Administrator is conducting the study under subsection (a) and give them an opportunity to explain how the credit described in subsection (a) would benefit such airports.

(c) Report.—Not later than 180 days after the date of the enactment of this Act, the Administrator shall transmit to Congress a report on the results of the study conducted under subsection (a). The report shall identify, at a minimum, the airports that would be affected by providing the credit described in subsection (a), explain what sort of emergencies could qualify for such credit, and explain how the costs would be quantified to determine the credit against the local share.”

Issued in Washington, DC on October 13, 2000.
Barry Molar,
Manager, Airports Financial Assistance Division.

[FR Doc. 00-28996 Filed 11-9-00; 8:45 am]

BILLING CODE 4910-13-M